DEPARTMENT OF EDUCATION

National Board of the Fund for the Improvement of Postsecondary Education, Department of Education

ACTION: Notice of meeting.

SUMMARY: This notice provides the schedule and a summary of the agenda for an upcoming meeting of the National Board of the Fund for the Improvement of Postsecondary Education (Board). The notice also describes the functions of the Board. Notice of this meeting is required by section 10(a)(2) of the Federal Advisory Committee Act.

DATE AND TIME: November 4, 2004, 12:30 to 4:30 p.m.

ADDRESSES: Renaissance Washington, DC Hotel, 999 Ninth Street, NW., Washington, DC 20001. Telephone: (202) 898-9000.

FOR FURTHER INFORMATION CONTACT: Donald Fischer, U.S. Department of Education, 1990 K Street, NW., Washington, DC 20006-8544; telephone (202) 502-7500; e-mail donald.fischer@ed.gov.

The meeting site is accessible to individuals with disabilities. An individual with a disability who will need an auxiliary aid or service to participate in the meeting (e.g., interpreting service, assistive listening device or materials in an alternate format) should notify the contact person listed in the preceding paragraph as soon as possible.

SUPPLEMENTARY INFORMATION: The National Board of the Fund for the Improvement of Postsecondary Education is established under section 742 of the Higher Education Act of 1965 (20 U.S.C. 1138a). The Board is authorized to advise the Director of the Fund and the Assistant Secretary for Postsecondary Education on (1) priorities for the improvement of postsecondary education, including recommendations for the improvement of postsecondary education and for the evaluation, dissemination, and adaptation of demonstrated improvements in postsecondary educational practice; and (2) the operation of the Fund, including advice on planning documents, guidelines, and procedures for grant competitions prepared by the Fund.

On Thursday, November 4, 2004, from 12:30 to 4:30 p.m., the Board will meet in open session. The proposed agenda for the meeting will include discussions of the Fund's programs and special initiatives. A special presentation will be made on a U.S.-Brazil Consortia Program project.

Records are kept of all Board proceedings and are available for public inspection at the office of the Fund for the Improvement of Postsecondary Education, 6th Floor, 1990 K Street, NW., Washington, DC 20006-8544 from the hours of 8 a.m. to 4:30 p.m.

Sally L. Stroup,
Assistant Secretary for Postsecondary Education.

[FR Doc. E4-2801 Filed 10-21-04; 8:45 am]

BILLING CODE 4000-01-P